Proclamation 7399 of January 17, 2001

Establishment of the Virgin Islands Coral Reef National Monument

By the President of the United States of America

A Proclamation

The Virgin Islands Coral Reef National Monument, in the submerged lands off the island of St. John in the U.S. Virgin Islands, contains all the elements of a Caribbean tropical marine ecosystem. This designation furthers the protection of the scientific objects included in the Virgin Islands National Park, created in 1956 and expanded in 1962. The biological communities of the monument live in a fragile, interdependent relationship and include habitats essential for sustaining and enhancing the tropical marine ecosystem: mangroves, sea grass beds, coral reefs, octocoral hardbottom, sand communities, shallow mud and fine sediment habitat, and algal plains. The fishery habitats, deeper coral reefs, octocoral hardbottom, and algal plains of the monument are all objects of scientific interest and essential to the long-term sustenance of the tropical marine ecosystem.

The monument is within the Virgin Islands, which lie at the heart of the insular Caribbean biome, and is representative of the Lesser Antillean biogeographic province. The island of St. John rises from a platform that extends several miles from shore before plunging to the abyssal depths of the Anegada trough to the south and the Puerto Rican trench to the north, the deepest part of the Atlantic Ocean. This platform contains a multitude of species that exist in a delicate balance, interlinked through complex relationships that have developed over tens of thousands of years.

As part of this important ecosystem, the monument contains biological objects including several threatened and endangered species, which forage, breed, nest, rest, or calve in the waters. Humpback whales, pilot whales, four species of dolphins, brown pelicans, roseate terns, least terns, and the hawksbill, leatherback, and green sea turtles all use portions of the monument. Countless species of reef fish, invertebrates, and plants utilize these submerged lands during their lives, and over 25 species of sea birds feed in the waters. Between the nearshore nursery habitats and the shelf edge spawning sites in the monument are habitats that play essential roles during specific developmental stages of reef-associated species, including spawning migrations of many reef fish species and crustaceans.

The submerged monument lands within Hurricane Hole include the most extensive and well-developed mangrove habitat on St. John. The Hurricane Hole area is an important nursery area for reef associated fish and invertebrates, instrumental in maintaining water quality by filtering and trapping sediment and debris in fresh water runoff from the fast land, and essential to the overall functioning and productivity of regional fisheries. Numerous coral reef-associated species, including the spiny lobster, queen conch, and Nassau grouper, transform from planktonic larvae to bottom-dwelling juveniles in the shallow nearshore habitats of Hurricane Hole. As they mature, they move offshore and take up residence in the deeper coral patch reefs, octocoral hardbottom, and algal plains of the submerged monument lands to the south and north of St. John.

The monument lands south of St. John are predominantly deep algal plains with scattered areas of raised hard bottom. The algal plains include communities of mostly red and calcareous algae with canopies as much as half a meter high. The raised hard bottom is sparsely colonized with corals, sponges, gorgonians, and other invertebrates, thus providing shelter for lobster, groupers, and snappers as well as spawning sites for some reef fish species. These algal plains and raised hard bottom areas link the shallow water reef, sea grass, and mangrove communities with the deep water shelf and shelf edge communities of fish and invertebrates.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Virgin Islands Coral Reef National Monument:

NOW, THEREFORE, I, WILLIAM J. CLINTON, President of the United States of America, by the authority vested in me by section 2 of the Act of June 8, 1906 (34 Stat. 225, 16 U.S.C. 431), do proclaim that there are hereby set apart and reserved as the Virgin Islands Coral Reef National Monument, for the purpose of protecting the objects identified above, all lands and interests in lands owned or controlled by the United States within the boundaries of the area described on the map entitled “Virgin Islands Coral Reef National Monument” attached to and forming a part of this proclamation. The Federal land and interests in land reserved consist of approximately 12,708 marine acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument. For the purpose of protecting the objects identified above, the Secretary shall prohibit all boat anchoring, except for emergency or authorized administrative purposes.

For the purposes of protecting the objects identified above, the Secretary shall prohibit all extractive uses, except that the Secretary may issue permits for bait fishing at Hurricane Hole and for blue runner (hard nose) line fishing in the area south of St. John, to the extent that such fishing is consistent with the protection of the objects identified in this proclamation.

Lands and interests in lands within the monument not owned or controlled by the United States shall be reserved as a part of the monument upon acquisition of title or control thereto by the United States.

The Secretary of the Interior shall manage the monument through the National Park Service, pursuant to applicable legal authorities, to implement the purposes of this proclamation. The National Park Service will manage the monument in a manner consistent with international law.

The Secretary of the Interior shall prepare a management plan, including the management of vessels in the monument, within 3 years, which addresses any further specific actions necessary to protect the objects identified in this proclamation.

The establishment of this monument is subject to valid existing rights.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this seventeenth day of January, in the year of our Lord two thousand one, and of the Independence of the United States of America the two hundred and twenty-fifth.

Billing code 3195-01-P

[FR Doc. 01-2104

Filed 1-19-01; 8:45 am]

Billing code 3195-01-C